DEPARTMENT OF EDUCATION

Federal Student Financial Assistance Programs Under Title IV of the Higher Education Act of 1965, as Amended

AGENCY: Department of Education.

ACTION: Notice inviting suggestions for new experiments for the Experimental Sites Initiative.

SUMMARY: The Secretary of Education invites institutions of higher education that participate in the student assistance programs authorized under title IV of the Higher Education Act of 1965, as amended (the HEA), or consortiums of such institutions, to propose ideas for institutionally based experiments designed to test new ways of administering the student financial assistance programs authorized by title IV of the HEA (the Title IV, HEA programs). This effort is called the Experimental Sites Initiative (ESI). This notice is the first of two notices that the Secretary will publish regarding the ESI.

Under section 487A(b) of the HEA, the Secretary has the authority to grant waivers from specific Title IV, HEA statutory or regulatory requirements to allow institutions to test alternative methods for administering the Title IV, HEA programs. Such institutions are referred to in the HEA as “experimental sites”. The Secretary seeks suggestions on how best to use this authority to reduce burden in the administration of the Title IV, HEA programs.

Consistent with section 487A(b) of the HEA, the Secretary cannot waive requirements related to need analysis, award rules, and grant and loan maximum award amounts. However, the Secretary anticipates approving experiments in a wide variety of other areas. The Secretary is particularly interested in suggestions for experiments that might produce stronger academic outcomes for students, such as improved persistence, shorter time to degree, and reduced reliance on outside work.

After reviewing the suggestions submitted by institutions as a result of this notice and constructing an evaluation design for approved experiments, the Secretary will publish a second notice in the Federal Register announcing approved experiments as well as the implementation and evaluative criteria for each approved experiment. The subsequent notice will invite institutions to apply to participate in one or more of those experiments, with preference given to the institution(s) that submitted the original suggestion.

DATES: Suggestions must be submitted no later than December 18, 2009 in order to ensure consideration for inclusion in the first phase of ESI.

ADDRESSES: Submissions must be submitted as an attachment to an e-mail sent to the following e-mail address: experimentalsites@ed.gov.

Instructions for Submitting Suggestions: We recommend that suggestions be prepared in either a Microsoft Word or Adobe Acrobat document that is attached to an electronic mail message sent to the e-mail address provided in the ADDRESSES section of this notice. We ask that submitters include the name and address of the institution that is submitting the suggestion and the name, title, mailing and e-mail addresses, and telephone number of a contact person for the institution or consortium. If the submission is from a consortium of institutions, we ask that the submitter list all institutions but only one contact person.

FOR FURTHER INFORMATION CONTACT: Warren Farr, U.S. Department of Education, Federal Student Aid, Room 43H2, 830 First Street, NE., Washington, DC 20002. E-mail at: Warren.Farr@ed.gov or by telephone at (202) 377-4380.

If you use a telecommunications device for the deaf (TDD), call the Federal Relay Service (FRS), toll free, at 1-800-877-8339. Individuals with disabilities can obtain this document in an accessible format (e.g. Braille, large print, audiotape, or computer diskette) by contacting Warren Farr.

SUPPLEMENTARY INFORMATION:

Background

Through ESI, we seek to experiment with ways to both improve services to students and free institutions and students from administrative burdens, while maintaining (or increasing) the financial and programmatic integrity of the Title IV, HEA programs.

While the Title IV, HEA programs help make a postsecondary education possible for millions of students, their costs to the American taxpayer are considerable. Therefore, Congress and the Secretary have a justifiable interest in protecting the integrity of the programs and do so by establishing statutory and regulatory requirements. In many instances, these requirements also provide students with protections and safeguards. They also ensure that students and families are fully informed of their rights and responsibilities as applicants and recipients of assistance from the Title IV, HEA programs and have the information needed to make informed decisions.

At this time, we seek the assistance of institutions in identifying areas in the administration of the Title IV, HEA programs that could benefit from testing alternative ways of accomplishing the underlying goals of the current statutory or regulatory requirements. We also seek suggestions on how these alternatives could be evaluated.

We understand that the ability to construct rigorous experimental designs is a specialized skill not expected of most financial aid professionals. Therefore, we are not asking institutions that submit suggestions for experiments to prepare full project designs, including evaluation designs. In collaboration with the submitting institution, we will develop the final experimental designs and evaluation plans for each approved experiment before we invite institutions to participate in the experiments. The designs of all experiments must measure not only the results of the alternative approach, but also provide reasonable measures of what would have happened under the existing requirements.

We also may develop experiments in addition to those proposed by institutions and we will invite institutions to participate in those experiments as well as any submitted by institutions.

We will require institutions that participate in the experiments to provide data about the effectiveness of the proposed alternatives. For this reason, we are interested in suggestions about methodologies that could be used to collect comparable information about current statutory requirements. This comparable data could be based upon the treatment of a control group of students at the institution who are subject to the current requirement or collected from other, similar institutions whose students are subject to the current requirement.

This invitation for suggestions is a part of the Secretary's continuing effort to improve Title IV, HEA program administration in partnership with the higher education community. We have benefited tremendously from the community's contributions through the negotiated rulemaking process and in other ways and we look forward to working with the institutions that participate in the ESI.

Invitation for Suggestions

We hope that this invitation will encourage institutions to suggest innovative strategies that improve postsecondary student outcomes, relieve unnecessary burden, and maintain program accountability. We will consider the outcomes of these experimental strategies when proposing changes to the Title IV, HEA program regulations or, if appropriate, in legislative proposals to the Congress.

We note that the results of earlier experiments under the ESI contributed to a statutory change that relaxed the 30-day delay requirement for the disbursement of loan funds to first-year, first-time borrowers, and eased the requirement that single-term loans be disbursed in multiple installments.

The flexibilities tested by a consortium of community colleges also resulted in a statutory change in the HEA regarding the Ability to Benefit (ATB) requirements. Specifically, the HEA now provides another alternative for students without a high school diploma, or its equivalent, to become eligible to receive Title IV, HEA student aid funds.

Under ESI, we seek innovative approaches in a variety of different areas related to the administration of the Title IV, HEA programs. We also encourage institutions to collaborate in the development process of proposals. We are interested in receiving suggestions that address the following:

• The specific statutory or regulatory requirement(s) relating to the Title IV, HEA programs the institution or consortium seeks relief from in order to test its alternative approach.

• The perceived objective of, or reason for, the current requirement.

• How an alternative approach avoids or minimizes problems with the existing requirement and still addresses its objective.

• Additional benefits from the proposed alternative approach.

Because we must demonstrate that the experiments we implement have the potential to improve efficiency while at the same time protecting the integrity of Title IV, HEA programs, we are especially interested in experiments that integrate scientifically valid evaluation methodologies into the suggested experiments. Thus, we would appreciate receiving suggestions that address the following components for evaluating the experiments:

• Measuring the undesirable aspects of complying with the current regulatory or statutory requirement identified.

• Measuring how well the objective or reason behind the current regulatory or statutory requirement identified is being met now and how it will be met in the experiment.

• Measuring any additional benefits associated with a proposed experiment.

• The kind of data we should collect from the institution or consortium once we select sites for participation in the experiments.

Reports on past experiments under the ESI can be found on the Experimental Sites Web site at https://experimentalsites.ed.gov/exp/reports.html. The Secretary encourages new experiments in areas other than those previously tried.

Electronic Access to This Document

You can view this document, as well as all other documents of this Department published in the Federal Register, in text or portable document format (PDF) on the Internet at the following site: http://www.ed.gov/news/fedregister/index.html.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: 20 U.S.C. 1094a.

Delegation of Authority: The Secretary of Education has delegated authority to Daniel T. Madzelan, Director, Forecasting and Policy Analysis for the Office of Postsecondary Education, to perform the functions and duties of the Assistant Secretary for Postsecondary Education.

Dated: October 23, 2009.
Daniel T. Madzelan,
Director, Forecasting and Policy Analysis.

[FR Doc. E9-25973 Filed 10-27-09; 8:45 am]

BILLING CODE 4000-01-P